NATIONAL LABOR RELATIONS BOARD

Sunshine Act Meetings: February 2014

TIME AND DATES: All meetings are held at 2:00 p.m.

Tuesday, February 4;

Wednesday, February 5;

Thursday, February 6;

Tuesday, February 11;

Wednesday, February 12;

Thursday, February 13;

Tuesday, February 18;

Wednesday, February 19;

Thursday, February 20.

PLACE: Board Agenda Room, No. 11820, 1099 14th St., NW., Washington, DC 20570

STATUS: Closed.

MATTERS TO BE CONSIDERED: Pursuant to § 102.139(a) of the Board's Rules and Regulations, the Board or a panel thereof will consider “the issuance of a subpoena, the Board's participation in a civil action or proceeding or an arbitration, or the initiation, conduct, or disposition . . . of particular representation or unfair labor practice proceedings under section 8, 9, or 10 of the [National Labor Relations] Act, or any court proceedings collateral or ancillary thereto.” See also 5 U.S.C. 552b(c)(10).

CONTACT PERSON FOR MORE INFORMATION: Henry Breiteneicher, Associate Executive Secretary, (202) 273-2917.

Dated: January 29, 2014.
William B. Cowen,
Solicitor.

[FR Doc. 2014-02168 Filed 1-29-14; 4:15 pm]

BILLING CODE 7545-01-P